DEPARTMENT OF ENERGY

Energy Efficiency and Renewable Energy

Biomass Research and Development Technical Advisory Committee

AGENCY: Energy Efficiency and Renewable Energy, Department of Energy.

ACTION: Notice for solicitation of members.

SUMMARY: In accordance with the Federal Advisory Committee Act, the U.S. Department of Energy is soliciting nomination for candidates to fill vacancies on the Biomass Research and Development Technical Advisory Committee (Committee).

DATES: Deadline for Technical Advisory Committee member nominations is June 30, 2018.

ADDRESSES: The nominee's name, resume, biography, and any letters of support must be submitted via one of the following methods:

(1) Email to Mark.Elless@ee.doe.gov

(2) Overnight delivery service to Dr. Mark Elless, Designated Federal Official for the Committee, Office of Energy Efficiency and Renewable Energy, U.S. Department of Energy, Mail Stop EE-3B, 1000 Independence Avenue SW, Washington, DC 20585.

FOR FURTHER INFORMATION CONTACT: Dr. Mark Elless, Designated Federal Official for the Committee, Office of Energy Efficiency and Renewable Energy, U.S. Department of Energy, 1000 Independence Avenue SW, Washington, DC 20585; (202) 586-6501; Email: Mark.Elless@ee.doe.gov. Committee website: http://biomassboard.gov/committee/committee.html

SUPPLEMENTARY INFORMATION: The Biomass Research and Development Act of 2000 (Biomass Act) [Pub. L. 106-224] requires cooperation and coordination in biomass research and development (R&D) between the U.S. Department of Agriculture (USDA) and U.S. Department of Energy (DOE). The Biomass Act was repealed in June 2008 by section 9008 of the Food, Conservation and Energy Act of 2008 (FCEA) [Pub. L. 110-246, 122 Stat. 1651, enacted June 18, 2008, H.R. 6124]. The Biomass Act was re-authorized in the Agricultural Act of 2014.

FCEA section 9008(d) established the Biomass Research and Development Technical Advisory Committee and lays forth its meetings, coordination, duties, terms, and membership types. Committee members are paid travel and per diem for each meeting. The Committee must meet quarterly and should not duplicate the efforts of other Federal advisory committees. Meetings are typically two days in duration. At least three meetings are held in the Washington DC area, with the fourth meeting possibly held at a site to be determined each year. The Committee advises DOE and USDA points of contact with respect to the Biomass R&D Initiative (Initiative) and priority technical biomass R&D needs and makes written recommendations to the Biomass R&D Board (Board). Those recommendations regard whether: (A) Initiative funds are distributed and used consistent with Initiative objectives; (B) solicitations are open and competitive with awards made annually; (C) objectives and evaluation criteria of the solicitations are clear; and (D) the points of contact are funding proposals selected on the basis of merit, and determined by an independent panel of qualified peers.

The committee members may serve two, three-year terms and committee membership must include: (A) An individual affiliated with the biofuels industry; (B) an individual affiliated with the biobased industrial and commercial products industry; (C) an individual affiliated with an institution of higher education that has expertise in biofuels and biobased products; (D) 2 prominent engineers or scientists from government (non-federal) or academia that have expertise in biofuels and biobased products; (E) an individual affiliated with a commodity trade association; (F) 2 individuals affiliated with environmental or conservation organizations; (G) an individual associated with state government who has expertise in biofuels and biobased products; (H) an individual with expertise in energy and environmental analysis; (I) an individual with expertise in the economics of biofuels and biobased products; (J) an individual with expertise in agricultural economics; (K) an individual with expertise in plant biology and biomass feedstock development; (L) an individual with expertise in agronomy, crop science, or soil science; and (M) at the option of the points of contact, other members (REF: FCEA 2008 section 9008(d)(2)(A)). All nominees will be carefully reviewed for their expertise, leadership, and relevance to an expertise. Appointments will be made for three-year terms, as dictated by the legislation.

Nominations this year are needed for the following categories in order to address the Committee's needs: (I) An individual with expertise in the economics of biofuels and biobased products; (H) an individual with expertise in energy and environmental analysis; and (J) an individual with expertise in agricultural economics. Nominations for other categories will also be accepted. Nomination categories C, D, H, I, J, K, L, and M are considered special Government employees (SGE) and require submittal of an annual financial disclosure form. In addition to the required categories, other areas of expertise of interest to the Committee are individuals with expertise in process engineering related to biorefineries, or biobased coproducts that enable fuel production.

Nominations are solicited from organizations, associations, societies, councils, federations, groups, universities, and companies that represent a wide variety of biomass research and development interests throughout the country. In your nomination letter, please indicate the specific membership category of interest. Each nominee must submit their resume and biography along with any letters of support by the deadline above. If you were nominated in previous years but were not appointed to the committee and would still like to be considered, please submit your nomination package again in response to this notice with all required materials. All nominees will be vetted before selection.

Nominations are open to all individuals without regard to race, color, religion, sex, national origin, age, mental or physical handicap, marital status, or sexual orientation. To ensure that recommendations of the Technical Advisory Committee take into account the needs of the diverse groups served by DOE, membership shall include (to the extent practicable), all racial and ethnic groups, women and men, and persons with disabilities. Please note that registered lobbyists serving in an “individual capacity,” individuals already serving another Federal Advisory Committee, and Federal employees are ineligible for nomination.

Appointments to the Biomass Research and Development Technical Advisory Committee will be made by the Secretary of Energy and the Secretary of Agriculture.

Issued at Washington, DC, on May 23, 2018.
Latanya Butler,
Deputy Committee Management Officer.

[FR Doc. 2018-11420 Filed 5-25-18; 8:45 am]

BILLING CODE 6450-01-P